NUCLEAR REGULATORY COMMISSION

[NRC-2015-0128]

Biweekly Notice; Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from April 30, 2015, to May 13, 2015. The last biweekly notice was published on May 12, 2015.

DATES: Comments must be filed by June 25, 2015. A request for a hearing must be filed by July 27, 2015.

ADDRESSES: You may submit comments by any of the following methods (unless this document describes a different method for submitting comments on a specific subject):

• Federal Rulemaking Web Site: Go to http://www.regulations.gov and search for Docket ID NRC-2015-0128. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Janet Burkhardt, Nuclear Reactor Regulation, U.S. Nuclear Regulatory Commission, Washington DC 20555-0001; telephone: 301-415-1384, email: Janet.Burkhardt@nrc.gov.

SUPPLEMENTARY INFORMATION:

I. Obtaining Information and Submitting Comments

A. Obtaining Information

Please refer to Docket ID NRC-2015-0128 when contacting the NRC about the availability of information for this action. You may obtain publicly-available information related to this action by any of the following methods:

• Federal Rulemaking Web Site: Go to http://www.regulations.gov and search for Docket ID NRC-2015-0128.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2015-0128, facility name, unit number(s), application date, and subject in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least ten 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

Dominion Nuclear Connecticut, Inc., Docket No. 50-423, Millstone Power Station, Unit 3 (MPS3), New London County, Connecticut

Date of amendment request: August 19, 2014, as supplemented by letter dated January 26, 2015. Publicly-available versions are in ADAMS under Accession Nos. ML14237A099 and ML15033A381, respectively.

Description of amendment request: The amendment would revise the MPS3 Technical Specification (TS) 3/4.7.1.2, “Auxiliary Feedwater System,” Surveillance Requirement (SR) 4.7.1.2.1.b. The proposed change is consistent with the Standard Technical Specifications for Westinghouse Plants (NUREG-1431, Revision 4).

Basis for proposed no significant hazards consideration determination: As required by 10 CFR 50.91(a), the licensee has provided its analysis of the issue of no significant hazards consideration, which is presented below:

1. The proposed amendment does not involve a significant increase in the probability or consequences of an accident previously evaluated.

Response: No.

The proposed amendment associated with the modifications to the existing surveillance requirement will not cause an accident to occur and will not result in any change in the operation of the associated accident mitigation equipment. The ability of the equipment associated with the proposed amendment to mitigate the design basis accidents will not be affected. The proposed Technical Specification surveillance requirement is sufficient to ensure the required accident mitigation equipment will be available and function properly for design basis accident mitigation. In addition, the design basis accidents will remain the same postulated events described in the MPS3 Final Safety Analysis Report, and the consequences of those events will not be affected.

Therefore, the proposed amendment will not significantly increase the probability or consequences of an accident previously evaluated.

2. The proposed amendment does not create the possibility of a new or different kind of accident from any accident previously evaluated.

Response: No.

The proposed amendment to the Technical Specifications surveillance requirement does not impact any system or component that could cause an accident. The proposed amendment does not involve a physical alteration of the plant. No new or different types of equipment will be installed and there are no physical modifications to existing equipment associated with the proposed amendment. The proposed amendment will not alter the way any structure, system, or component functions, and will not alter the manner in which the plant is operated or require any new operator actions. There will be no adverse effect on plant operation or accident mitigation equipment. The response of the plant and the operators following an accident will not be different. In addition, the proposed amendment does not create the possibility of a new failure mode associated with any equipment or personnel failures.

Therefore, the proposed amendment will not create the possibility of a new or different kind of accident from any accident previously evaluated.

3. The proposed amendment does not involve a significant reduction in a margin of safety?

Response: No.

The proposed amendment to the Technical Specification surveillance requirement will not cause an accident to occur and will not result in any change in the operation of the associated accident mitigation equipment. The equipment associated with the proposed Technical Specification surveillance requirement will continue to be able to mitigate the design basis accidents as assumed in the safety analysis. The proposed surveillance requirement is adequate to ensure proper operation of the affected accident mitigation equipment. In addition, the proposed amendment will not affect equipment design or operation, and there are no changes being made to the Technical Specification required safety limits or safety system settings. The proposed amendment, in conjunction with the IST [Inservice Testing] Program, will provide adequate control measures to ensure the accident mitigation functions are maintained.

Therefore, the proposed amendment will not result in a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resource Services, Inc., 120 Tredegar Street, RS-2, Richmond, VA 23219.

NRC Acting Branch Chief: Michael I. Dudek.

Duke Energy Carolinas, LLC, Docket Nos. 50-269, 50-270, and 50-287, Oconee Nuclear Station (ONS), Units 1, 2, and 3, Oconee County, South Carolina

Date of amendment request: September 18, 2014. A publicly-available version is in ADAMS under Accession No. ML14269A078.

Description of amendment request: The amendment would revise the Technical Specifications (TS) to define a new time limit for restoring inoperable Reactor Coolant System (RCS) leakage detection instrumentation to operable status and establish alternate methods of monitoring RCS leakage when one or more required monitors are inoperable.

Basis for proposed no significant hazards consideration determination: As required by 10 CFR 50.91(a), the licensee has provided its analysis of the issue of no significant hazards consideration, which is presented below:

1. Does the proposed change involve a significant increase in the probability or consequences of an accident previously evaluated?

Response: No.

The proposed change modifies the operability requirements for the Reactor Coolant System (RCS) leakage detection instrumentation to include a containment atmosphere gaseous radioactivity monitor and incorporates a reduction in the time allowed for the plant to operate when the only TS-required operable RCS leakage detection instrumentation monitor is the containment atmosphere gaseous radioactivity monitor. Accidents described in the ONS Updated Final Safety Analysis Report involving RCS leakage are both small and large breaks in reactor coolant pressure boundary (RCPB) piping. Such accidents already assume RCPB leakage (i.e., gross leakage). Thus, any change to Technical Specifications involving equipment that monitor[s] RCPB leakage is not a precursor to any accident previously evaluated. In addition, any change to Technical Specifications involving equipment that monitor[s] RCPB leakage is not used to mitigate the consequences of any accident previously evaluated.

Therefore, it is concluded that the proposed change does not involve a significant increase in the probability or consequences of an accident previously evaluated.

2. Does the proposed change create the possibility of a new or different kind of accident from any accident previously evaluated?

Response: No.

The proposed change modifies the operability requirements for the RCS leakage detection instrumentation to include a containment atmosphere gaseous radioactivity monitor and incorporates a reduction in the time allowed for the plant to operate when the only TS-required operable RCS leakage detection instrumentation monitor is the containment atmosphere gaseous radioactivity monitor. The proposed change does not involve a physical alteration of the plant (no new or different type of equipment will be installed) or a change in the methods governing normal plant operation. The proposed change maintains sufficient continuity and diversity of leak detection capability that the probability of piping evaluated and approved for Leak-Before-Break progressing to pipe rupture remains extremely low.

Therefore, it is concluded that the proposed change does not create the possibility of a new or different kind of accident from any previously evaluated.

3. Does the proposed change involve a significant reduction in a margin of safety?

Response: No.

The proposed change modifies the operability requirements for the RCS leakage detection instrumentation to include a containment atmosphere gaseous radioactivity monitor and incorporates a reduction in the time allowed for the plant to operate when the only TS-required operable RCS leakage detection instrumentation monitor is the containment atmosphere gaseous radioactivity monitor. By adding the option of utilizing a containment atmosphere gaseous radioactivity monitor in place of the existing containment atmosphere particulate radioactivity monitor, ONS more closely conforms to NUREG-1430, Revision 3.0 TS limiting conditions for operation requirements for RCS leakage detection instrumentation. Since NUREG-1430 is an NRC-controlled document, the reduction in margin of safety for adding the option of utilizing a containment atmosphere gaseous radioactivity monitor in place of the existing containment atmosphere particulate radioactivity monitor is acceptable to the NRC and not considered significant. The reduced amount of time the plant is allowed to operate with only the containment atmosphere gaseous radioactivity monitor operable increases the margin of safety by increasing the likelihood that an increase in RCS leakage will be detected before it potentially results in gross failure.

Therefore, it is concluded that the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lara S. Nichols, Deputy General Counsel, Duke Energy Corporation, 550 South Tryon Street—DEC45A, Charlotte, NC 28202-1802.

NRC Branch Chief: Robert J. Pascarelli.

Energy Northwest, Docket No. 50-397, Columbia Generating Station (CGS), Benton County, Washington

Date of amendment request: March 17, 2015. A publicly-available version is in ADAMS under Accession No. ML15093A178.

Description of amendment request: The amendment would modify the CGS Technical Specifications (TSs) by relocating specific surveillance frequencies to a licensee-controlled program consistent with NRC-approved Technical Specifications Task Force (TSTF) Traveler TSTF-425, Revision 3, “Relocate Surveillance Frequencies to Licensee Control—RITSTF [Risk-Informed Technical Specifications Task Force] Initiative 5b,” dated March 18, 2009 (ADAMS Accession No. ML090850642). The availability of this TS improvement program was announced in the Federal Register on July 6, 2009 (74 FR 31996). Energy Northwest has proposed certain plant-specific variations and deviations from TSTF-425, Revision 3, as described in its application dated March 17, 2015.

Basis for proposed no significant hazards consideration determination: As required by 10 CFR 50.91(a), the licensee has provided its analysis of the issue of no significant hazards consideration, which is presented below:

1. Does the proposed change involve a significant increase in the probability or consequences of any accident previously evaluated?

Response: No.

The proposed change relocates the specified frequencies for periodic surveillance requirements to licensee control under a new Surveillance Frequency Control Program. Surveillance frequencies are not an initiator to any accident previously evaluated. As a result, the probability of any accident previously evaluated is not significantly increased. The systems and components required by the technical specifications for which the surveillance frequencies are relocated are still required to be operable, meet the acceptance criteria for the surveillance requirements, and be capable of performing any mitigation function assumed in the accident analysis. As a result, the consequences of any accident previously evaluated are not significantly increased.

Therefore, the proposed change does not involve a significant increase in the probability or consequences of an accident previously evaluated.

2. Does the proposed change create the possibility of a new or different kind of accident from any previously evaluated?

Response: No.

No new or different accidents result from utilizing the proposed change. The changes do not involve a physical alteration of the plant (i.e., no new or different type of equipment will be installed) or a change in the methods governing normal plant operation. In addition, the changes do not impose any new or different requirements. The changes do not alter assumptions made in the safety analysis. The proposed changes are consistent with the safety analysis assumptions and current plant operating practice.

Therefore, the proposed changes do not create the possibility of a new or different kind of accident from any accident previously evaluated.

3. Does the proposed change involve a significant reduction in the margin of safety?

Response: No.

The design, operation, testing methods, and acceptance criteria for systems, structures, and components (SSCs), specified in applicable codes and standards (or alternatives approved for use by the NRC) will continue to be met as described in the plant licensing basis (including the final safety analysis report and bases to the Technical Specifications (TS)), because these are not affected by changes to the surveillance frequencies. Similarly, there is no impact to safety analysis acceptance criteria as described in the plant licensing basis. To evaluate a change in the relocated surveillance frequency, Energy Northwest will perform a probabilistic risk evaluation using the guidance contained in NRC approved [Nuclear Energy Institute (NEI) 04-10, Revision 1, “Risk-Informed Technical Specifications Initiative 5b, Risk-Informed Method for Control of Surveillance Frequencies,” April 2007 (ADAMS Accession No. ML071360456)] in accordance with the TS Surveillance Frequency Control Program. NEI 04-10, Revision 1, methodology provides reasonable acceptance guidelines and methods for evaluating the risk increase of proposed changes to surveillance frequencies consistent with Regulatory Guide 1.177 [Revision 1, “An Approach for Plant-Specific, Risk-Informed Decisionmaking: Technical Specifications,” May 2011 (ADAMS Accession No. ML100910008)].

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: William A. Horin, Esq., Winston & Strawn, 1700 K Street NW., Washington, DC 20006-3817.

NRC Branch Chief: Michael T. Markley.

PSEG Nuclear LLC, Docket Nos. 50-272 and 50-311, Salem Nuclear Generating Station, Units 1 and 2, Salem County, New Jersey

Date of amendment request: March 9, 2015, as supplemented by letter dated April 10, 2015. Publicly-available versions are in ADAMS under Accession Nos. ML15068A359 and ML15100A406, respectively.

Description of amendment request: The amendment would create new Technical Specification (TS) 3.9.2.1, “Refueling Operations/Unborated Water Source Isolation Valves,” to isolate unborated water sources in Mode 6 (Refueling) and revise the exiting TS 3.9.2, “Refueling Operations/Instrumentation,” to support using the Gamma-Metrics Post Accident Neutron Monitors (PANM) for neutron flux indication during Mode 6. TS 3.9.2 is renumbered as TS 3.9.2.2 and the TS language is re-worded to be consistent with the language in NUREG-1431, Revision 4, “Standard Technical Specifications Westinghouse Plants.”

Basis for proposed no significant hazards consideration determination: As required by 10 CFR 50.91(a), the licensee has provided its analysis of the issue of no significant hazards consideration, which is presented below:

1. Do the proposed changes involve a significant increase in the probability or consequences of an accident previously evaluated?

Response: No.

A boron dilution event during Mode 6 has been precluded through the proposed Technical Specification (TS) Limiting Condition for Operation 3.9.2.1, which requires isolating unborated water sources by securing valves in the closed position.

The primary function of the source range neutron flux monitors in Mode 6 is to inform the operators of unexpected changes in core reactivity. The proposed change to allow using the Gamma-Metric PANM for neutron flux monitoring during Mode 6 does not increase the probability of an accident previously evaluated, because the source range neutron flux monitors are not accident initiators or precursors.

The use of Gamma-Metrics PANM, does not significantly increase the consequences of a boron dilution event. Boron dilution during Mode 6 has been precluded by isolating unborated water sources by securing valves in the closed position. The use of Gamma Metrics PANM, does not affect the integrity of the fission product barriers utilized for the mitigation of radiological dose consequences as a result of an accident.

Therefore, the proposed changes do not involve a significant increase in the probability or consequences of an accident previously evaluated.

2. Do the proposed changes create the possibility of a new or different kind of accident from any accident previously evaluated?

Response: No.

The Gamma-Metrics PANMs are used for monitoring neutron flux and criticality assessment in Mode 6. The proposed changes will not adversely affect this monitoring capability. The proposed changes do not involve any physical modification of plant systems, structures, or components, or changes in parameters governing plant operation. No new accident scenarios, failure mechanisms, or single failures are introduced as a result of any of the proposed changes. Source range neutron flux monitors are not accident initiators.

Therefore, the proposed changes do not create the possibility of a new or different kind of accident from any previously evaluated.

3. Do the proposed changes involve a significant reduction in a margin of safety?

Response: No.

Margin of safety is related to the confidence in the ability of the fission product barriers to perform their intended functions. These barriers include the fuel cladding, the reactor coolant system pressure boundary, and the containment. The proposed TS changes do not affect any of these barriers. No accident mitigating equipment will be adversely impacted by the proposed changes. Boron dilution during Mode 6 has been precluded by isolating unborated water sources by securing valves in the closed position. The Gamma-Metrics PANM are not explicitly credited in any accident analysis for Mode 6. The existing safety margins are preserved.

Therefore, the proposed changes do not involve a significant reduction in the margin of safety.

The NRC staff has reviewed the licensee's analysis and, based on this review, it appears that the three standards of 10 CFR 50.92(c) are satisfied. Therefore, the NRC staff proposes to determine that the amendment request involves no significant hazards consideration.

Attorney for licensee: Jeffrie J. Keenan, PSEG Nuclear LLC—N21, P.O. Box 236, Hancocks Bridge, NJ 08038.

NRC Branch Chief: Douglas A. Broaddus.

Southern Nuclear Operating Company, Inc., Docket Nos. 50-348 and 50-364, Joseph M. Farley Nuclear Plant, Units 1 and 2, Houston County, Alabama

Date of amendment request: April 13, 2015. A publicly-available version is in ADAMS under Accession No. ML15103A656.

Description of amendment request: The amendments would revise the Technical Specifications consistent with NRC-approved Technical Specification Task Force (TSTF) Technical Change Traveler 432-A, Revision 1, “Change in Technical Specifications End States, WCAP-16294,” dated November 29, 2010.

Basis for proposed no significant hazards consideration determination: As required by 10 CFR 50.91(a), the licensee has provided its analysis of the issue of no significant hazards consideration, which is presented below:

1. Does the proposed change involve a significant increase in the probability or consequences of an accident previously evaluated?

Response: No.

The proposed change modifies the end state (e.g., mode or other specified condition) which the Required Actions specify must be entered if compliance with the Limiting Conditions for Operation (LCO) is not restored. The requested Technical Specifications (TS) permit an end state of Mode 4 rather than an end state of Mode 5 contained in the current TS. In some cases, other Conditions and Required Actions are revised to implement the proposed change. Required Actions are not an initiator of any accident previously evaluated. Therefore, the proposed change does not affect the probability of any accident previously evaluated. The affected systems continued to be required to be operable by the TS and the Completion Times specified in the TS to restore equipment to operable status or take other remedial Actions remain unchanged. WCAP-16294-NP-A, Rev. 1, “Risk-Informed Evaluation of Changes to Tech Spec Required Action Endstates for Westinghouse NSSS PWRs,” demonstrates that the proposed change does not significantly increase the consequences of any accident previously evaluated.

Therefore, the proposed change does not involve a significant increase in the probability or consequences of an accident previously evaluated.

2. Does the proposed change create the possibility of a new or different kind of accident from any accident previously evaluated?

Response: No.

The proposed change modifies the end state (e.g., mode or other specified condition) which the Required Actions specify must be entered if compliance with the LCO is not restored. In some cases, other Conditions and Required Actions are revised to implement the proposed change. The change does not involve a physical alteration of the plant (i.e., no new or different type of equipment will be installed) or a change in the methods governing normal plant operation. In addition, the change does not impose any new requirements. The change does not alter assumptions made in the safety analysis.

Therefore, the proposed change does not create the possibility of a new or different kind of accident from any accident previously evaluated.

3. Does the proposed changes involve a significant reduction in a margin of safety?

Response: No.

The proposed change modifies the end state (e.g., mode or other specified condition) which the Required Actions specify must be entered if compliance with the LCO is not restored. In some cases, other Conditions and Required Actions are revised to implement the proposed change. Remaining within the Applicability of the LCO is acceptable because WCAP-16294-NP-A demonstrates that the plant risk in MODE 4 is similar to or lower than MODE 5. As a result, no margin of safety is significantly affected.

Therefore, the proposed changes do not involve a significant reduction in the margin of safety.

The NRC staff has reviewed the licensee's analysis and, based on this review, it appears that the three standards of 10 CFR 50.92(c) are satisfied. Therefore, the NRC staff proposes to determine that the amendment request involves no significant hazards consideration.

Attorney for licensee: Leigh D. Perry, SVP & General Counsel of Operations and Nuclear, Southern Nuclear Operating Company, 40 Iverness Center Parkway, Birmingham, AL 35201.

NRC Branch Chief: Robert J. Pascarelli.

Tennessee Valley Authority, Docket Nos. 50-259, 50-260, and 50-296, Browns Ferry Nuclear Plant, Units 1, 2, and 3, Limestone County, Alabama

Date of amendment request: February 17, 2015. A publicly-available version is in ADAMS under Accession No. ML15050A179.

Description of amendment request: The amendment would revise Table 3.3.6.1-1, “Primary Containment Isolation Instrumentation,” of the Technical Specifications to correct an inadvertent omission made by Amendment Nos. 251, 290, and 249 for Units 1, 2, and 3, respectively (ADAMS Accession No. ML042730028). Specifically, the proposed revision would add the number “3” to indicate Mode 3 for Function 5.g, Standby Liquid Control System (SLCS) initiation, to the column entitled, “Applicable Modes or Other Specified Conditions.” When this inadvertent error is corrected, SLCS will be required to be operable in Modes 1, 2, and 3.

Basis for proposed no significant hazards consideration determination: As required by 10 CFR 50.91(a), the licensee has provided its analysis of the issue of no significant hazards consideration. The NRC staff has reviewed the licensee's analysis against the standards of 10 CFR 50.92(c). The NRC staff's review is presented below:

1. Does the proposed change involve a significant increase in the probability or consequences of an accident previously evaluated?

Response: No.

The proposed change corrects Table 3.3.6.1-1 as stated above. As corrected, Function 5.g, SLCS initiation, will be required to be capable of performing its design safety function and is not rendered inoperable if the reactor is placed into Mode 3. SLCS initiation operable in Mode 3 is in the units' current licensing bases. Thus, no previously evaluated accident consequence will be increased by this change. Furthermore, the SLCS initiation was not postulated to be an initiator of any previously evaluated accident.

Thus, restoring the requirement for SLCS initiation to be available in Mode 3 will not have any impact on the probability of occurrence of any previously evaluated accident.

2. Does the proposed change create the possibility of a new or different kind of accident from any accident previously evaluated?

Response: No.

The proposed change does not involve a physical alteration of the plant (i.e., no new or different type of equipment will be installed) and does not change the methods governing normal plant operation. In addition, the proposed change does not impose any new or different requirements.

Therefore, the proposed change does not create the possibility of a new or different kind of accident from any accident previously evaluated.

3. Does the proposed change involve a significant reduction in a margin of safety?

Response: No.

The proposed change does not affect any current plant safety margin, analysis method, acceptance criterion, safety limit, safety system setting, or reliability of equipment assumed in the safety analyses.

Therefore, the proposed change does not involve a significant reduction in a margin of safety.

Based on this review, it appears that the three standards of 10 CFR 50.92(c) are satisfied. Therefore, the NRC staff proposes to determine that the amendment request involves no significant hazards consideration.

Attorney for licensee: General Counsel, Tennessee Valley Authority, 400 West Summit Hill Drive, 6A West Tower, Knoxville, TN 37902.

NRC Branch Chief: Shana R. Helton.

Tennessee Valley Authority, Docket No. 50-390, Watts Bar Nuclear Plant, Unit 1, Rhea County, Tennessee

Date of amendment request: April 6, 2015. A publicly-available version is in ADAMS under Accession No. ML15117A462.

Description of amendment request: The amendment would revise the Technical Specifications (TSs) by modifying the acceptance criteria for the emergency diesel generator (DG) steady state frequency range in associated surveillance requirements.

Basis for proposed no significant hazards consideration determination: As required by 10 CFR 50.91(a), the licensee has provided its analysis of the issue of no significant hazards consideration, which is presented below:

1. Does the proposed amendment involve a significant increase in the probability or consequences of an accident previously evaluated?

Response: No.

The DGs are required to be operable in the event of a design basis accident coincident with a loss of offsite power to mitigate the consequences of the accident. The DGs are not accident initiators and therefore these changes do not involve a significant increase in the probability of an accident previously evaluated.

The accident analyses assume that at least one load group bus is provided with power either from the offsite circuits or the DGs. The change proposed in this license amendment request will continue to assure that the DGs have the capacity and capability to assume their maximum design basis accident loads. The proposed change does not significantly alter how the plant would mitigate an accident previously evaluated.

The proposed change does not adversely affect accident initiators or precursors nor alter the design assumptions, conditions, and configuration of the facility or the manner in which the plant is operated and maintained. The proposed change does not adversely affect the ability of structures, systems, and components (SSC) to perform their intended safety function to mitigate the consequences of an initiating event within the assumed acceptance limits. The proposed change does not affect the source term, containment isolation, or radiological release assumptions used in evaluating the radiological consequences of any accident previously evaluated. Further, the proposed change does not increase the types and amounts of radioactive effluent that may be released offsite, nor significantly increase individual or cumulative occupational/public radiation exposure.

Therefore, this proposed amendment does not involve a significant increase in the probability or consequences of an accident previously evaluated.

2. Does the proposed amendment create the possibility of a new or different kind of accident from any accident previously evaluated?

Response: No.

The proposed change does not involve a change in the plant design, system operation, or the use of the DGs. The proposed change requires the DGs to meet SR [surveillance requirement] acceptance criteria that envelope the actual demand requirements for the DGs during design basis conditions. These revised acceptance criteria continue to demonstrate the capability and capacity of the DGs to perform their required functions. There are no new failure modes or mechanisms created due to testing the DGs within the proposed acceptance criteria. Testing of the DGs at the proposed acceptance criteria does not involve any modification in the operational limits or physical design of plant systems. There are no new accident precursors generated due to the proposed test loadings.

Therefore, the proposed amendment does not create the possibility of a new or different kind of accident from any accident previously evaluated.

3. Does the proposed amendment involve a significant reduction in a margin of safety?

Response: No.

The proposed change will continue to demonstrate that the DGs meet the TS definition of operability, that is, the proposed acceptance criteria will continue to demonstrate that the DGs will perform their safety function. The proposed testing will also continue to demonstrate the capability and capacity of the DGs to supply their required loads for mitigating a design basis accident.

The proposed change does not alter the manner in which safety limits, limiting safety system settings or limiting conditions for operation are determined. The safety analysis acceptance criteria are not affected by this change. The proposed change will not result in plant operation in a configuration outside the design basis.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Dr., ET 11A, Knoxville, TN 37902.

NRC Branch Chief: Jessie F. Quichocho.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

DTE Electric Company, Docket No. 50-341, Fermi 2, Monroe County, Michigan

Date of amendment request: July 2, 2014.

Description of amendment: The amendment revised the Cyber Security Plan (CSP) Milestone 8 implementation date. Milestone 8 pertains to full implementation of the CSP for all safety, security, and emergency preparedness functions.

Date of issuance: May 7, 2015.

Effective date: As of the date of issuance and shall be implemented within 60 days of issuance.

Amendment No.: 200. A publicly-available version is in ADAMS under Accession No. ML15096A043; documents related to this amendment are listed in the Safety Evaluation enclosed with the amendment.

Facility Operating License No. NPF-43: Amendment revised the Facility Operating License.

Date of initial notice in Federal Register: September 9, 2014 (79 FR 53458).

The Commission's related evaluation of the amendment is contained in a Safety Evaluation dated May 7, 2015.

No significant hazards consideration comments received: No.

Energy Northwest, Docket No. 50-397, Columbia Generating Station (CGS), Benton County, Washington

Date of application for amendment: November 17, 2014, as supplemented by letter dated March 17, 2015.

Brief description of amendment: The amendment modified Technical Specification (TS) 2.0, “Safety Limits,” to revise values for the safety limit minimum critical power ratio (SLMCPR) for single and two recirculation loop operation due to core loading fuel management changes for the upcoming operating cycle. Specifically, the amendment would increase the numeric values of SLMCPR in TS Section 2.1.1.2 to incorporate the results of the CGS Cycle 23 SLMCPR analysis.

Date of issuance: May 11, 2015.

Effective date: As of its date of issuance and shall be implemented before plant start-up from the spring 2015 refueling outage (Cycle 23).

Amendment No.: 234. A publicly-available version is in ADAMS under Accession No. ML15098A254; documents related to this amendment are listed in the Safety Evaluation enclosed with the amendment.

Renewed Facility Operating License No. NPF-21: The amendment revised the Facility Operating License and TS.

Date of initial notice in Federal Register: February 3, 2015 (80 FR 5800). The supplemental letter dated March 17, 2015, provided additional information that clarified the application, did not expand the scope of the application as originally noticed, and did not change the staff's original proposed no significant hazards consideration determination as published in the Federal Register.

The Commission's related evaluation of the amendment is contained in a Safety Evaluation dated May 11, 2015.

No significant hazards consideration comments received: No.

Entergy Nuclear Operations, Inc., Docket No. 50-293, Pilgrim Nuclear Power Station, Plymouth County, Massachusetts

Date of amendment request: December 10, 2014, as supplemented by letters dated February 13 and March 11, 2015.

Brief description of amendment: This amendment revised the minimum critical power ratio from ≥1.08 to ≥1.10 for two recirculation loop operation and from ≥1.11 to ≥1.12 for single recirculation loop operation in Technical Specification (TS) 2.1, “Safety Limits.”

Date of issuance: May 6, 2015.

Effective date: As of the date of issuance, and shall be implemented within 60 days of issuance.

Amendment No.: 243. A publicly-available version is in ADAMS under Accession No. ML15114A021; documents related to this amendment are listed in the Safety Evaluation enclosed with the amendment.

Renewed Facility Operating License No. DPR-35: Amendment revised the License and TS.

Date of initial notice in Federal Register: March 12, 2015 (80 FR 13030). The supplement dated March 11, 2015, provided additional information that clarified the application, did not expand the scope of the application as originally noticed, and did not change the NRC staff's original proposed no significant hazards consideration determination as published in the Federal Register.

The Commission's related evaluation of the amendment is contained in a Safety Evaluation dated May 6, 2015.

No significant hazards consideration comments received: No.

Entergy Operations, Inc., System Energy Resources, Inc., South Mississippi Electric Power Association, and Entergy Mississippi, Inc., Docket No. 50-416, Grand Gulf Nuclear Station, Unit 1, Claiborne County, Mississippi

Date of application for amendment: October 7, 2014, as supplemented by letter dated January 6, 2015.

Brief description of amendment: The amendment revised Surveillance Requirements (SRs) related to gas accumulation for the emergency core cooling system and reactor core isolation cooling system. The amendment also added new SRs related to gas accumulation for the residual heat removal, shutdown cooling, and containment spray systems. The NRC staff has concluded that the Technical Specification (TS) changes are consistent with NRC-approved Technical Specifications Task Force (TSTF) Standard Technical Specifications Change Traveler TSTF-523, Revision 2, “Generic Letter 2008-01, Managing Gas Accumulation,” dated February 21, 2013, as part of the consolidated line item improvement process. The TS Bases changes associated with these SRs were also changed as proposed by the TSTF.

Date of issuance: May 12, 2015.

Effective date: As of the date of issuance and shall be implemented within 90 days of issuance.

Amendment No: 202. A publicly-available version is in ADAMS under Accession No. ML15104A623; documents related to this amendment are listed in the Safety Evaluation enclosed with the amendment.

Facility Operating License No. NPF-29: The amendment revised the Facility Operating License and TS.

Date of initial notice in Federal Register: February 17, 2015 (80 FR 8360).

The Commission's related evaluation of the amendment is contained in a Safety Evaluation dated May 12, 2015.

No significant hazards consideration comments received: No.

Exelon Generation Company, LLC, Docket Nos. 50-352 and 50-353, Limerick Generating Station, Units 1 and 2, Montgomery County, Pennsylvania

Date of amendment request: July 10, 2014.

Brief description of amendments: The amendments revised and added Technical Specification (TS) surveillance requirements to address the concerns discussed in Generic Letter 2008-01, “Managing Gas Accumulation in Emergency Core Cooling, Decay Heat Removal, and Containment Spray Systems,” dated January 11, 2008. The TS changes are based on TS Task Force (TSTF) Traveler TSTF-523, Revision 2, “Generic Letter 2008-01, Managing Gas Accumulation,” dated February 21, 2013.

Date of issuance: May 11, 2015.

Effective date: As of the date of issuance and shall be implemented within 120 days.

Amendment Nos.: 216 and 178. A publicly-available version is in ADAMS under Accession No. ML15083A403; documents related to these amendments are listed in the Safety Evaluation enclosed with the amendments.

Renewed Facility Operating License Nos. NPF-39 and NPF-85: Amendments revised the Renewed Facility Operating License and TS.

Date of initial notice in Federal Register: September 2, 2014 (79 FR 52064).

The Commission's related evaluation of the amendments is contained in a Safety Evaluation dated May 11, 2015.

No significant hazards consideration comments received: No.

STP Nuclear Operating Company, Docket Nos. 50-498 and 50-499, South Texas Project, Units 1 and 2, Matagorda County, Texas

Date of amendment request: January 6, 2014, as supplemented by letters dated June 9, December 4, and December 17, 2014.

Brief description of amendments: The license amendments revised Technical Specification (TS) 3.3.1, “Reactor Trip System Instrumentation,” with respect to the required actions and allowed outage times for inoperable reactor trip breakers.

Date of issuance: April 29, 2015.

Effective date: As of the date of issuance and shall be implemented within 90 days of issuance.

Amendment Nos.: Unit 1—205; Unit 2—193. A publicly-available version is in ADAMS under Accession No. ML15075A146; documents related to these amendments are listed in the Safety Evaluation enclosed with the amendments.

Facility Operating License Nos. NPF-76 and NPF-80: The amendments revised the Facility Operating Licenses and TS.

Date of initial notice in Federal Register: August 5, 2014 (79 FR 45481). The supplemental letters dated December 4 and December 17, 2014, provided additional information that clarified the application, did not expand the scope of the application as originally noticed, and did not change the staff's original proposed no significant hazards consideration determination as published in the Federal Register.

The Commission's related evaluation of the amendments is contained in a Safety Evaluation dated April 29, 2015.

No significant hazards consideration comments received: No.

Dated at Rockville, Maryland, this 18th day of May, 2015.
For the Nuclear Regulatory Commission.
A. Louise Lund,
Acting Director, Division of Operating Reactor Licensing, Office of Nuclear Reactor Regulation.

[FR Doc. 2015-12661 Filed 5-22-15; 8:45 am]

BILLING CODE 7590-01-P